FEDERAL COMMUNICATIONS COMMISSION

47 CFR Part 73

[DA 11-1523; MB Docket No. 11-147]

Radio Broadcasting Services; Alamo, GA; Alton, MO; Boscobel, WI; Buffalo, OK; Cove, AR; Clayton, LA; Daisy, AR; Ennis, MT; Erick, OK; Grayville, IL; Harrison, MI; Haworth, OK; Leedey, OK; Owen, WI; Reydon, OK; Taloga, OK; Thomas, OK; Tigerton, WI; Weinert, TX; and Wright City, OK

AGENCY: Federal Communications Commission.

ACTION: Proposed rule.

SUMMARY: The Audio Division, on its own motion, proposes the deletion of twenty vacant allotments in various communities in Arkansas, Georgia, Illinois, Louisiana, Michigan, Missouri, Montana, Oklahoma, Texas, and Wisconsin. These vacant allotments have been auctioned through our competitive bidding process, and are considered unsold permits that were included in Auction 91. Interested parties should file comments expressing an interest in the vacant allotments to prevent their removal. Moreover, interested parties must provide an explanation as to why they did not participate in our competitive bidding process.

DATES: Comments must be filed on or before October 31, 2011, and reply comments on or before November 15, 2011.

ADDRESSES: Secretary, Federal Communications Commission, 445 Twelfth Street, SW., Washington, DC 20554.

FOR FURTHER INFORMATION CONTACT: Rolanda F. Smith, Media Bureau, (202) 418-2180.

SUPPLEMENTARY INFORMATION: This is a synopsis of the Commission's Notice of Proposed Rule Making, MB Docket No. 11-147, adopted September 8, 2011, and released September 9, 2011. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Amend § 73.202(b) Table of FM Allotments as follows:

a. Remove Cove, under Arkansas, Cove, Channel 232A and Daisy, Channel 293C3.

b. Remove Alamo, under Georgia, Channel 287C3.

c. Remove Grayville, under Illinois, Channel 229A.

d. Remove Clayton, under Louisiana, Channel 266A.

e. Remove Harrison, under Michigan, Channel 280A.

f. Remove Alton, under Missouri, Channel 290A.

g. Remove Ennis, under Montana, Channel 254C2.

h. Remove Buffalo, under Oklahoma, Channel 224C2; Erick, Channel 259C2; Haworth, Channel 294A; Leedey, Channel 297A; Reydon, Channel 264C2; Taloga, Channel 226A; Thomas, Channel 288A; and Wright City, Channel 226A.

i. Remove Weinert, under Texas, Channel 266C3.

j. Remove Boscobel, under Wisconsin, Channel 244C3; Owen, Channel 242C3; and Tigerton, Channel 295A.

[FR Doc. 2011-26028 Filed 10-6-11; 8:45 am]

BILLING CODE 6712-01-P